DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 Survey of Income and Program Participation Event History Calendar (SIPP-EHC) Field Test.

OMB Control Number: 0607-0957.

Form Number(s): SIPP-EHC 105(L)2012—Director's Letter; SIPP-EHC-105(L)(SP) 2012—Director's Letter Spanish; SIPP-EHC 4006A Brochure “SIPP You Represent Your Nation;” SIPP/CAPI Automated Instrument.

Type of Request: Revision of a currently approved collection.

Burden Hours: 5,460.

Number of Respondents: 5,460.

Average Hours per Response: 1 hour.

Needs and Uses: The U.S. Census Bureau requests authorization from the Office of Management and Budget (OMB) to conduct the 2012 Survey of Income and Program Participation Event History Calendar (SIPP-EHC) Field Test. The Census Bureau's SIPP-EHC computer-assisted personal interviewing (CAPI) will use an Event History Calendar (EHC) interviewing method and a 12-month, calendar-year reference period in place of the current SIPP questionnaire approach that uses a sliding 4-month reference period. The Census Bureau is re-engineering the SIPP to accomplish several goals including re-engineering the collection instrument and processing system, development of the EHC in the instrument, use of the administrative records data where feasible, and increased stakeholder interaction.

The main objective of the SIPP has been, and continues to be, to provide accurate and comprehensive information about the income and program participation of individuals and households in the United States. The survey's mission is to provide a nationally representative sample for evaluating: (1) Annual and sub-annual income dynamics, (2) movements into and out of government transfer programs, (3) family and social context of individuals and households, and (4) interactions among these items. The re-engineering of SIPP pursues these objectives in the context of several goals—cost reduction and improved accuracy, relevance, timeliness, reduced burden on respondents, and accessibility.

A key component of the re-engineering process involves the proposed shift from the every-four-month data collection schedule of traditional SIPP to an annual data collection schedule for the re-engineered survey. To accomplish this shift with minimal impact on data quality, the Census Bureau proposes employing the use of an event history calendar to gather SIPP data. The EHC is intended to help respondents recall information in a more natural “autobiographical” manner by using life events as triggers to recall other economic events. For example, a residence change can in many cases occur contemporaneously with a change in employment. The entire process of compiling the calendar focuses, by its nature, on consistency and sequential order of events, and attempts to correct for otherwise missing data. For example, if the respondents are unemployed, they may then look for a job, and then become employed. The 2012 SIPP-EHC Field Test will continue the EHC methodology implemented in the 2011 Field Test instrument.

The 2012 SIPP-EHC Field Test will re-interview respondents interviewed in 2011, collecting data for the previous calendar year as the reference period. The content of the 2012 SIPP-EHC will closely match that of the 2011 Re-engineered SIPP. As in the 2010 and 2011 SIPP-EHC field interviews, a portion of traditional SIPP topical module content is integrated into the 2012 SIPP-EHC. The 2012, as in 2010 and 2011, SIPP-EHC will not contain free-standing topical modules. The EHC allows recording dates of events and spells of coverage and should provide measures of monthly transitions of program receipt and coverage, labor force transitions, health insurance transitions, and others. The 2012 SIPP-EHC will be the first test of using dependent data (collected in 2011 SIPP-EHC) in conjunction with calendar methods to reduce burden and improve quality.

The 2012 SIPP-EHC Field Test will be conducted in all 12 Census Regional Offices from January 2012 to March 2012. Approximately 2,600 households (based on response and coverage estimates derived from the 2011 Re-engineered SIPP field work) are selected for the 2012 SIPP-EHC. We estimate that each household contains 2.1 people aged 15 and above, yielding approximately 5,460 person-level interviews in the field test. Interviews take one hour on average. The total annual burden for the 2012 SIPP-EHC interviews will be 5,460 hours in FY 2012.

Results from the 2010, 2011 and 2012 Field Tests, and the 2008 SIPP Panel will be used to inform final decisions regarding the design, content, and implementation of the Re-engineered SIPP for its production beginning in 2014.

Affected Public: Individuals or households.

Frequency: One time.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 15, 2011.
Glenna Mickelson,
Management Analyst, Office of the Chief Information Officer.

[FR Doc. 2011-21149 Filed 8-18-11; 8:45 am]

BILLING CODE 3510-07-P